DEPARTMENT OF THE TREASURY

Agency Information Collection Activities; Submission for OMB Review; Comment Request; Treasury International Capital (TIC) Forms BC, BL-1, BL-2, BQ-1, BQ-2, and BQ-3

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before March 2, 2020 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Departmental Offices (DO)

Title: Treasury International Capital (TIC) Forms BC, BL-1, BL-2, BQ-1, BQ-2, and BQ-3.

OMB Control Number: 1505-0016.

Type of Review: Revision of a currently approved collection.

Description: These Treasury International Capital (TIC) B forms are required by law and are designed to collect timely and readily available information on cross-border claims and liabilities of U.S. banks, other financial institutions, and their domestic customers. These reports are required by E.O. Number 10033 of February 8, 1949 and implementing Treasury Regulations (31 CFR 128), the International Investment and Trade in Services Survey Act (22. U.S.C. 3103), and the Bretton Woods Agreements Act (Sec. 8(a) 59 Stat. 515; 22 U.S.C. 286f).

The TIC B forms comprise the following six forms:

(1) Form BC (monthly), “Report of U.S. Dollar Claims of Financial Institutions on Foreign Residents”, is filed by banks, other depository institutions, bank holding companies, financial holding companies, securities brokers and dealers, and all other financial institutions in the United States to report their own portfolio claims (exclusive of long-term securities) on foreign residents.

(2) Form BL-1 (monthly), “Report of U.S. Dollar Liabilities of Financial Institutions to Foreign Residents”, is filed by banks, other depository institutions, bank holding companies, financial holding companies, securities brokers and dealers, and all other financial institutions in the United States to report their own portfolio liabilities (exclusive of long-term securities) to foreign residents.

(3) Form BL-2 (monthly), “Report of Customers' U.S. Dollar Liabilities to Foreign Residents”, is filed by banks, other depository institutions, bank holding companies, financial holding companies, securities brokers and dealers, and all other financial institutions in the United States to report the U.S. dollar liabilities (exclusive of long-term securities) of their domestic customers.

(4) Form BQ-1 (quarterly), “Report of Customers' U.S. Dollar Claims on Foreign Residents”, is filed by banks, other depository institutions, bank holding companies, financial holding companies, securities brokers and dealers, and all other financial institutions in the United States to report their own and their domestic customers' portfolio claims (exclusive of long-term securities) on foreign residents.

(5) BQ-2 (quarterly), “Part 1—Report of Foreign Currency Liabilities and Claims of Financial Institutions and of their Domestic Customers' Foreign Currency Claims with Foreign Residents; Part 2—Report of Customers' Foreign Currency Liabilities to Foreign Residents”, is filed by banks, other depository institutions, bank holding companies, financial holding companies, securities brokers and dealers, and all other financial institutions in the United States to report their own liabilities and claims (exclusive of long-term securities), and liabilities and claims (exclusive of long-term securities) of their domestic customers, denominated in foreign currencies.

(6) Form BQ-3 (quarterly), “Report of Maturities of Selected Liabilities and Claims of Financial Institutions with Foreign Residents”, is filed by banks, other depository institutions, bank holding companies, financial holding companies, brokers and dealers, and all other financial institutions in the United States to report the maturities of selected liabilities and claims with foreign residents denominated in U.S. dollars or in foreign currencies.

These forms have previously been cleared individually under OMB Control Numbers 1505-0017, 1505-0018, 1505-0019, 1505-0020 and 1505-0189. With this submission, all TIC B forms will now be consolidated under OMB Control Number 1505-0016.

Form: BC, BL-1, BL-2, BQ-1, BQ-2, and BQ-3.

Affected Public: Businesses or other for-profits.

Estimated Burden
Form | Number respondents | Number responses per respondent | Total annual responses | Hours per response | Total burden (hours)
BC | 350 | 12 | 4,200 | 11.16 | 46,863
BL-1 | 352 | 12 | 4,224 | 7.75 | 32,746
BL-2 | 100 | 12 | 1,200 | 8.99 | 10,789
BQ-1 | 80 | 4 | 320 | 3.92 | 1,254
BQ-2 | 193 | 4 | 772 | 7.83 | 6,044
BQ-3 | 143 | 4 | 572 | 10.50 | 6,006
Total | 1,218 | 4-12 | 11,288 | 9.19 | 103,702

Authority: 44 U.S.C. 3501 et seq.

Dated: January 24, 2020.
Spencer W. Clark,
Treasury PRA Clearance Officer.

[FR Doc. 2020-01600 Filed 1-29-20; 8:45 am]

BILLING CODE 4810-25-P